DEPARTMENT OF HOMELAND SECURITY

Coast Guard

[Docket No. USCG-2016-1073]

Chemical Transportation Advisory Committee

AGENCY: Coast Guard, Department of Homeland Security.

ACTION: Notice of federal advisory committee meeting.

SUMMARY: The Chemical Transportation Advisory Committee will meet on February 28, March 1, and March 2, 2017, in Houston, TX to discuss committee matters relating to the safe and secure marine transportation of hazardous materials. These meeting will be open to the public.

DATES: Chemical Transportation Advisory Committee subcommittees will meet on Tuesday, February 28, 2017, from 9 a.m. to 5 p.m.; and on Wednesday, March 1, 2017, from 9 a.m. to 5 p.m. The full Committee will meet Thursday, March 2, 2017, from 9 a.m. to 5 p.m. Please note that the meetings may close early if the Committee completes its business.

ADDRESSES: The meeting will be held at United States Coast Guard Sector Houston-Galveston, 13411 Hilliard St., Houston, TX 77034, http://homeport.uscg.mil/houstongalveston.

All visitors to Sector Houston-Galveston will have to pre-register to be admitted to the building. U.S. citizens must provide your name, telephone number, and email address by close of business on February 17, 2017, to the contact person listed in FOR FURTHER INFORMATION CONTACT below. Non U.S. citizens must provide your name, date of birth, place of birth, country of citizenship, passport country, passport number, country of residence, company, telephone number, and email address by January 27, 2017, to the contact person listed in FOR FURTHER INFORMATION CONTACT below.

For information on facilities or services for individuals with disabilities or to request special assistance at the meeting, contact the individual listed in the FOR FURTHER INFORMATION CONTACT as soon as possible.

Instructions: To facilitate public participation, written comments on the issues to be considered by the Committee as listed in the “Agenda” section below must be submitted no later than Friday, February 10, 2017, if you want the Committee members to review your comment prior to the meeting. Written comments must be submitted using Federal eRulemaking Portal: http://www.regulations.gov. You must include the words “Department of Homeland Security” and the number (USCG-2016-1073). Comments received will be posted without alteration at http://www.regulations.gov, including any personal information provided. You may review a Privacy Act notice regarding the Federal Docket Management System in the March 24, 2005 issue of the Federal Register (70 FR 15086). If you encounter technical difficulties with comment submission, contact the individual in the FOR FURTHER INFORMATION CONTACT section of this notice.

Docket Search: For access to the docket to read documents or comments related to this notice, go to http://www.regulations.gov, type “USCG-2016-1073” in the “Search” box, press Enter, and then click on the item you wish to view.

FOR FURTHER INFORMATION CONTACT: Lieutenant Commander Julie Blanchfield, Alternate Designated Federal Official of the Chemical Transportation Advisory Committee, 2703 Martin Luther King Jr. Ave. SE., Stop 7509, Washington, DC 20593-7509, Telephone 202-372-1419, Fax 202-372-8380, or Julie.e.blanchfield@uscg.mil.

SUPPLEMENTARY INFORMATION: Notice of this meeting is in compliance with the Federal Advisory Committee Act, (Title 5, United States Code Appendix).

The Chemical Transportation Advisory Committee is an advisory Committee authorized under section 871 of the Homeland Security Act of 2002, 6 United States Code 451, and is chartered under the provisions of the Federal Advisory Committee Act. The Committee acts solely in an advisory capacity to the Secretary of the Department of Homeland Security through the Commandant of the Coast Guard and the Deputy Commandant for Operations on matters relating to safe and secure marine transportation of hazardous materials activities insofar as they relate to matters within the United States Coast Guard's jurisdiction. The Committee advises, consults with, and makes recommendations reflecting its independent judgment to the Secretary.

Agendas of Meetings

Subcommittee Meetings on February 28 and March 1, 2017

The subcommittee meetings will separately address the following tasks:

1. Task Statement 13-03: Safety Standards for the Design of Vessels Carrying Natural Gas or Using Natural Gas as Fuel.

2. Task Statement 15-01: Marine Vapor Control System Certifying Entities Guidelines update and Vapor Control System Policy Letter to supplement the implementation of the final rule.

3. Task Statement 16-01: Hazardous Cargo Transportation Security Subcommittee.

The task statements from the last Committee meeting are located at Homeport at the following address: http://homeport.uscg.mil/ctac. The agenda for each subcommittee meeting will include the following:

1. Review task statements, which are listed in paragraph (7) of the agenda for the March 2, 2017, Committee meeting.

2. Work on tasks assigned in task statements mentioned above.

3. Public comment period.

4. Discuss and prepare proposed recommendations for the Chemical Transportation Advisory Committee meeting on March 2, 2017, on tasks assigned in detailed task statements mentioned above.

Full Committee Meeting on March 2, 2017

The agenda for the Chemical Transportation Committee meeting on Thursday, March 2, 2017, is as follows:

1. Introductions and opening remarks.

2. Swear in newly appointed Committee members, and thank outgoing members.

3. Thank you letter presentation for the Ships Carrying Bulk Liquid, Liquefied Gas, or Compressed Gas Hazardous Materials (46 CFR 153) Subcommittee.

4. Review of September 29, 2016, meeting minutes and status of task items.

5. Coast Guard Leadership Remarks.

6. Chairman's and Designated Federal Officer's remarks.

7. Committee will review, discuss, and formulate recommendations on the following items:

a. Task Statement 13-03: Safety Standards for the Design of Vessels Carrying Natural Gas or Using Natural Gas as Fuel.

b. Task Statement 15-01: Marine Vapor Control System (Certifying Entities Guidelines update and vapor control System supplementary guidance for the implementation of the final rule).

c. Task Statement 16-01: Hazardous Cargo Transportation Security Subcommittee.

8. USCG presentations on the following items of interest:

a. Update on International Maritime Organization activities as they relate to the marine transportation of hazardous materials.

b. Update on U.S. regulations and policy initiatives as they relate to the marine transportation of hazardous materials.

c. Update on the Chemical Data Guide.

9. Presentation on lessons learned from a lightning strike on a methanol operation.

10. New business and subcommittee recommendation discussion.

11. Set next meeting date and location.

12. Set subcommittee meeting schedule.

13. Public comment period.

Public comments or questions will be taken throughout the meeting as the Committee discusses the issues and prior to deliberations and voting. There will also be a public comment period at the end of the meeting. Speakers are requested to limit their comments to 3 minutes. Please note that the public comment period may end before the period allotted, following the last call for comments. Contact the individual listed in the FOR FURTHER INFORMATION CONTACT section above to register as a speaker.

Dated: January 9, 2017.
J.G. Lantz,
Director of Commercial Regulations and Standards.

[FR Doc. 2017-00648 Filed 1-12-17; 8:45 am]

BILLING CODE 9110-04-P